NUCLEAR REGULATORY COMMISSION

[Docket 70-7001]

Notice of Issuance of Certification Amendment to the Certificate of Compliance GDP-1 for the U.S. Enrichment Corporation Paducah Gaseous Diffusion Plant Paducah, KY

Notice is hereby given that the U.S. Nuclear Regulatory Commission (NRC or the Commission) has issued an amendment to the Certificate of Compliance for the United States Enrichment Corporation's Paducah, Kentucky, facility. The amendment increases the assay limit for the facility from the current 2.75 wt%²³⁵U up to 5.5 wt%²³⁵U. The NRC issued a Federal Register Notice (65 FRN 70368) dated November 22, 2000, noticing receipt of USEC's amendment request, dated October 20, 2000. The FRN also requested comments during a 30-day public comment period. One set of public comments was received on December 22, 2000, and was considered when reviewing the amendment request.

The initial licensing review was completed and a preliminary Compliance Evaluation Report was issued on February 16, 2001. An operational readiness review was then performed at the facility from February 20 through March 2, 2001. The remaining licensing review was then completed and the amendment was issued on March 19, 2001.

In addition, there is a public meeting scheduled for Wednesday, March 28, 2001, to discuss this amendment. The meeting will be held at the Paducah Community College, Rosenthal Hall #111 (Engineering Building) from 7-9 pm. For more information concerning the meeting, contact Heather Astwood on 301-415-5819.

For further details with respect to this action, see the application for amendment, and the Compliance Evaluation Report written in support of issuing the amendment. These documents are available for public inspection at the Commission's Public Document Room, NRC's Headquarters Building, One White Flint North, 11555 Rockville Pike, Rockville, Maryland 20852 and electronically from the Publicly Available Records System (PARS) component of NRC's document management system (ADAMS) which is accessible from the NRC Web Site at: http://www.nrc.gov/NRC/ADAMS/index.html.

Brief description of amendment: The U.S. Enrichment Corporation requested that the assay limit for the Paducah facility be increased from the current 2.75 wt%²³⁵U up to 5.5 wt%²³⁵U. The proposed amendment is approved and allows the Paducah facility to withdraw from the cascade and ship 5.0 wt% enriched uranium hexafluoride (UF6).

Certificate of Compliance No. GDP-1: The amendment will be revision number 55 to the certificate and is allowing the facility to produce the higher enrichment. This amendment also finalizes changes to the Technical Safety Requirements.

Dated at Rockville, Maryland, this 19th day of March 2001.
For the Nuclear Regulatory Commission.
Daniel M. Gillen,
Acting Chief, Special Projects Branch, Division of Fuel Cycle Safety and Safeguards Office of Nuclear Material Safety and Safeguards.

[FR Doc. 01-7614 Filed 3-27-01; 8:45 am]

BILLING CODE 7590-01-P